DEPARTMENT OF VETERANS AFFAIRS

Enhanced-Use Lease Development for a New Department of Veterans Affairs (VA) Veterans Assistance Office (VAO), Las Vegas, NV

AGENCY: Department of Veterans Affairs.

ACTION: Notice of Designation.

SUMMARY: The Secretary of the Department of Veterans Affairs (VA) is designating VA-controlled property adjacent to the VA Ambulatory Care Center in Las Vegas, Nevada, as a site for Enhance-Use development. The Department intends to enter into a long-term (up to 75 years) lease of real property with a competitively selected developer who will finance, develop, and operate office space needed for VA administrative purposes. VA will improve services, reduce operating costs, and optimize capital investments.

FOR FURTHER INFORMATION CONTACT: Brian McDaniel, Asset Enterprise Management (004B), Department of Veterans Affairs, 810 Vermont Avenue, NW, Washington, DC, 20420, (202) 273-9702.

SUPPLEMENTARY INFORMATION: 38 U.S.C. 8161 et. seq., specifically provides that the Secretary may enter into an Enhanced-Use lease if he determines that at least part of the use of the property under the lease will be to provide appropriate space for an activity contributing to the mission of the Department. The lease will not be inconsistent with and will not adversely affect the mission of the Department. The lease will enhance the use of the property or the Secretary must determine that the project will result in a demonstrable improvement of services to veterans. This project meets these requirements.

Approved: February 11, 2002.
Anthony J. Principi,
Secretary.

[FR Doc. 02-4328 Filed 2-22-02; 8:45 am]

BILLING CODE 8320-01-M